DEPARTMENT OF COMMERCE

National Oceanic and Atmospheric Administration

[RTID 0648-XE401]

Endangered Species; File No. 28338

AGENCY: National Marine Fisheries Service (NMFS), National Oceanic and Atmospheric Administration (NOAA), Commerce.

ACTION: Notice; receipt of application.

SUMMARY: Notice is hereby given that the Puerto Rico Department of Natural and Environmental Resources, San José Industrial Park, 1375 Ave. Ponce de León, San Juan, PR 00926 (Responsible Party: Nilda Jimenez-Marrero, Ph.D.), has applied in due form for a permit to take pillar coral (Dendrogyra cylindrus) for purposes of enhancement.

DATES: Written comments must be received on or before November 25, 2024.

ADDRESSES: The application and related documents are available for review by selecting “Records Open for Public Comment” from the “Features” box on the Applications and Permits for Protected Species home page, https://apps.nmfs.noaa.gov, and then selecting File No. 28338 from the list of available applications. These documents are also available upon written request via email to NMFS.Pr1Comments@noaa.gov.

Written comments on this application should be submitted via email to NMFS.Pr1Comments@noaa.gov. Please include File No. 28338 in the subject line of the email comment.

Those individuals requesting a public hearing should submit a written request via email to NMFS.Pr1Comments@noaa.gov. The request should set forth the specific reasons why a hearing on this application would be appropriate.

FOR FURTHER INFORMATION CONTACT: Amy Hapeman or Erin Markin, Ph.D., (301) 427-8401.

SUPPLEMENTARY INFORMATION: The subject permit is requested under the authority of the Endangered Species Act of 1973, as amended (16 U.S.C. 1531 et seq.) and the regulations governing the taking, importing, and exporting of endangered and threatened species (50 CFR parts 222-226).

The applicant proposes to conduct restoration activities for pillar coral in Puerto Rico in the event the species is listed as endangered. The objective of this project is to preserve the genetic diversity of the species and increase its population numbers in coral reefs in the wild. Restoration practitioners would collect up to 500 colonies or parts of colonies annually from coral reefs in the waters of Puerto Rico and transport them to in situ and ex situ nurseries for maintenance and propagation. Up to 1,500 colonies would be outplanted to the wild from nurseries annually. An additional 25 colonies or parts of colonies annually would be collected from the wild as part of emergency response due to catastrophic events, such as a vessel grounding or storm. These colonies would be reattached or stabilized in the wild (in the same location or at a new location) or transported to a nursery. The permit is requested for 10 years.

Dated: October 21, 2024.
Julia M. Harrison,
Chief, Permits and Conservation Division, Office of Protected Resources, National Marine Fisheries Service.

[FR Doc. 2024-24774 Filed 10-23-24; 8:45 am]

BILLING CODE 3510-22-P